NUCLEAR REGULATORY COMMISSION

[NRC-2009-0405]

Request for a License To Export Radioactive Waste

Pursuant to 10 CFR 110.70 (b) “Public Notice of Receipt of an Application,” please take notice that the U. S. Nuclear Regulatory Commission (NRC) has received the following request for an export license. Copies of the request are available electronically through ADAMS and can be accessed through the Public Electronic Reading Room (PERR) link http://www.nrc.gov/reading-rm.html at the NRC Homepage.

A request for a hearing or petition for leave to intervene may be filed within thirty days after publication of this notice in the Federal Register. Any request for hearing or petition for leave to intervene shall be served by the requestor or petitioner upon the applicant, the office of the General Counsel, U.S. Nuclear Regulatory Commission, Washington, DC 20555; the Secretary, U.S. Nuclear Regulatory Commission, Washington, DC 20555; and the Executive Secretary, U.S. Department of State, Washington, DC 20520.

A request for a hearing or petition for leave to intervene may be filed with the NRC electronically in accordance with NRC's E-Filing rule promulgated in the August 28 2007 Federal Register, 72 FR 49139. Information about filing electronically is available on the NRC's public Web site at http://www.rnc.gov/site-help/e-submittals.html. To ensure timely electronic filing, at least 5 (five) days prior to the filing deadline, the petitioner/requestor should contact the Office of the Secretary by e-mail at HEARINGDOCKET@NRC.GOV, or by calling (301) 415-1677, to request a digital ID certificate and allow for the creation of an electronic docket.

In addition to a request for hearing or petition for leave to intervene, written comments, in accordance with 10 CFR 110.81, should be submitted within thirty (30) days after publication of this notice in the Federal Register to Office of the Secretary, U.S. Nuclear Regulatory Commission, Washington, DC 20555, Attention: Rulemaking and Adjudications

The information concerning this export license application follows.

NRC Export License Application
Name of applicant, date of application, date received, application No., Docket No. | Description of material: Material type | Description of material: Total quantity | End use | Recipient country
Eastern Technologies, Inc. (ETI); August 3, 2009; August 5, 2009; XW016; 11005825 | Class A radioactive waste as slightly contaminated secondary waste resulting from the dissolving and decontamination of polyvinyl alcohol (PVA) dissolvable protective clothing and related items (e.g., zippers, hook & loop material, elastic, etc.) along with the process filters used to decontaminate the dissolved clothing retrieved from the combustible Class A radioactive waste imported in accordance with NRC license IW016 | The total quantity authorized for export will not exceed quantities imported in accordance with NRC license IW016 | The secondary waste resulting from the Laguna Verde material will be shipped to Impact Services, Oak Ridge, TN for further volume reduction and then returned to ETI for export back to Laguna Verde in Mexico | Mexico.

For the Nuclear Regulatory Commission.
Dated this 8th day of September 2009 at Rockville, Maryland.
Scott W. Moore,
Deputy Director, Office of International Programs.

[FR Doc. E9-22560 Filed 9-17-09; 8:45 am]

BILLING CODE 7590-01-P